DEPARTMENT OF LABOR

Employee Benefits Security Administration

Proposed Extension of Information Collection; Request for Public Comment for Class Prohibited Transaction Exemption 2006-16

ACTION: Notice.

SUMMARY: The Department of Labor (Department), as part of its continuing effort to reduce paperwork and respondent burden, conducts a preclearance consultation program to provide the general public and Federal agencies with an opportunity to comment on proposed and continuing collections of information in accordance with the Paperwork Reduction Act of 1995 (PRA) (44 U.S.C. 3506(c)(2)(A)). This program helps to ensure that the data the Department gathers can be provided in the desired format, that the reporting burden on the public (time and financial resources) is minimized, that the public understands the Department's collection instruments, and that the Department can accurately assess the impact of collection requirements on respondents.

Currently, the Employee Benefits Security Administration (EBSA) is soliciting comments concerning the extension of currently approved collections of information arising from Class Prohibited Transaction Exemption 2006-16, which permits employee benefit plans to lend securities owned by the plans as investments to banks and broker-dealers and to make compensation arrangements for lending services provided by a plan fiduciary in connection with securities loans. A copy of the information collection request (ICR) can be obtained by contacting the office shown in the ADDRESSES section of this notice.

DATES: Written comments must be submitted to the office shown in the ADDRESSES section of this notice on or before November 24, 2009.

ADDRESSES: Interested parties are invited to submit written comments regarding the information collection request and burden estimates to G. Christopher Cosby, Office of Policy and Research, Employee Benefits Security Administration, U.S. Department of Labor, 200 Constitution Avenue, NW., Room N-5718, Washington, DC 20210, (202) 693-8410, FAX (202) 219-4745 (these are not toll-free numbers). Comments may also be submitted electronically to the following Internet e-mail address: ebsa.opr@dol.gov.

SUPPLEMENTARY INFORMATION:

I. Background

This ICR covers information collections contained in PTE 2006-16. In 1981 and 1982, the Department issued two related prohibited transaction class exemptions, PTE 81-6 and PTE 82-63, that permit employee benefit plans to lend securities owned by the plans as investments to banks and broker-dealers and to make compensation arrangements for lending services provided by a plan fiduciary in connection with securities loans. In 2006, the Department promulgated PTE 2006-16, which combines and amends the exemptions previously provided under PTE 81-6 and PTE 82-63. The new exemption expands the categories of exempted transactions to include securities lending to foreign banks and broker-dealers that are domiciled in specified countries and to allow the use of additional forms of collateral, all subject to specified conditions.

Among other conditions, the class exemption requires that a bank or broker-dealer that borrows securities from a plan must provide the plan with its most recent audited financial statement. The borrower must also affirm, when the loan is negotiated, that there has been no material adverse change in its financial condition since the previously audited statement.

The exemption also requires that the agreements regarding the securities loan transaction or transactions and the compensation arrangement for the lending fiduciary must be contained in written documents. Individual agreements are not required for each transaction; rather the compensation agreement may be made in the form of a master agreement covering a series of transactions. The ICRs contained in PTE 2006-16 were approved by the Office of Management and Budget (OMB) under OMB Control No. 1210-0065, which currently is scheduled to expire on December 31, 2009.

II. Desired Focus of Comments

The Department is particularly interested in comments that:

• Evaluate whether the collection of information is necessary for the proper performance of the functions of the agency, including whether the information will have practical utility;

• Evaluate the accuracy of the agency's estimate of the burden of the collection of information, including the validity of the methodology and assumptions used;

• Enhance the quality, utility, and clarity of the information to be collected; and

• Minimize the burden of the collection of information on those who are to respond, including through the use of appropriate automated, electronic, mechanical, or other technological collection techniques or other forms of information technology, e.g., by permitting electronic submission of responses.

III. Current Action

This notice requests comments on an extension of the information collections arising from PTE 2006-16. The Department is not proposing or implementing any changes to the information collections at this time. A summary of the ICR and the current burden estimates follows:

Agency: Department of Labor, Employee Benefits Security Administration.

Title: PTE 2006-16 (Securities Lending by Employee Benefit Plans).

Type of Review: Extension of a currently approved collection of information.

OMB Number: 1210-0065.

Affected Public: Business or other for-profit; Not-for-profit institutions.

Frequency of Response: On occasion.

Respondents: 200.

Responses: 10,000.

Total Estimated Burden Hours: 367.

Total Burden Cost (Operating and Maintenance): $11,200.

Comments submitted in response to this notice will be summarized and/or included in the request for OMB approval of the extension of this ICR; they will also become a matter of public record.

Dated: September 21, 2009.
Joseph S. Piacentini,
Director, Office of Policy and Research, Employee Benefits Security Administration.

[FR Doc. E9-23141 Filed 9-24-09; 8:45 am]

BILLING CODE 4510-20-P